DEPARTMENT OF AGRICULTURE

Food and Nutrition Service

Agency Information Collection Activities: Proposed Collection, Comment Request—Commodity Supplemental Food Program, the Food Distribution Program on Indian Reservations, and the Food Stamp Program: Title VI Civil Rights Collection Reports

AGENCY: Food and Nutrition Service, USDA.

ACTION: Notice.

SUMMARY: In accordance with the Paperwork Reduction Act of 1995, the Food and Nutrition Service (FNS) is publishing for public comment a summary of a proposed information collection. The proposed collection is a revision of a collection currently approved under OMB No. 0584-0025, Civil Rights Title VI Collection Reports—Forms FNS-191 and FNS-101, for the Commodity Supplemental Food Program, the Food Distribution Program on Indian Reservations, and the Food Stamp Program.

DATES: Comments on this notice must be received by January 27, 2003.

ADDRESSES: Send comments and requests for copies of this information collection to Barbara Hallman, Chief, State Administration Branch, Food Stamp Program, Food and Nutrition Service, USDA, 3101 Park Center Drive, Alexandria, VA 22302. Copies of the estimate of the information collection can be obtained by contacting Ms. Hallman.

Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All comments will be summarized and included in the request for Office of Management and Budget approval of the information collection. All comments will become a matter of public record.

FOR FURTHER INFORMATION CONTACT: Barbara Hallman, telephone number (703) 305-2383.

SUPPLEMENTARY INFORMATION: Title: Civil Rights Title VI Collection Reports—FNS-191 and FNS-101.

OMB Number: 0584-0025.

Expiration Date: December 2002.

Type of Request: Revision of a currently approved collection.

Abstract: Title VI of the Civil Rights Act of 1964, 42 U.S.C. 2000d to 2000d-7, prohibits discrimination on the basis of race, color, and national origin in programs receiving Federal financial assistance. Department of Justice (DOJ) regulations, 28 CFR 42.406, require all Federal agencies to provide for the collection of racial/ethnic data and information from applicants for and recipients of Federal assistance sufficient to permit effective enforcement of Title VI.

For purposes of the Information Collection Notice only, the Food and Nutrition Service (FNS) employs program terminology in place of the standard Title VI terminology adopted by the U.S. Department of Agriculture (USDA) and codified at 7 CFR 15.2. Thus, “State agencies,” “local agencies,” and/or “operators” are the program entities responsible for fulfilling the data collection requirements associated with “primary recipients” and/or “recipients” as defined by Title VI. Moreover, the program terms “respondents,” “applicants,” and/or “participants” refer to the “potential beneficiaries,” “applicant beneficiaries,” and/or “actual beneficiaries” of Federal financial assistance as defined by Title VI.

In order to conform with the statutory mandates of Title VI of the Civil Rights Act of 1964, DOJ regulations, and USDA regulations on nondiscrimination in Federally assisted programs, the USDA's Food and Nutrition Service (FNS) requires State agencies to submit data on the racial/ethnic categories of persons receiving benefits from FNS food assistance programs.

In all three programs, State and local agencies collect racial/ethnic information on the benefits application form that applicants may complete and file manually or electronically. The application form must clearly indicate three points: (1) The information is voluntary, (2) the race and ethnic information will not affect an applicant's eligibility or level of benefits, and (3) the reason for the collection of the information is to assure that program benefits are distributed without regard to race, color or national origin. All three programs allow the individual to self-identify his or her racial/ethnic status on the application. Visual observation by a program representative is used to collect the data when the individual does not self-identify. In either case the information is recorded on the application form and entered into the agency's information system. The Federal reporting forms do not identify individual participants.

Local agencies use the two forms referenced above (i.e., the FNS-191 and FNS-101) to report data on the Commodity Supplemental Food Program (CSFP), the Food Distribution Program on Indian Reservations (FDPIR), and the Food Stamp Program (FSP) to FNS as explained below. FNS' data collection requirement for operators is found in the regulations for the CSFP at 7 CFR part 247.13(d), and for the FSP at 7 CFR part 272.6(g); the requirement for the FDPIR is found in FNS Handbook 501.

All State or local agencies must submit the appropriate form in order to receive benefits and comply with applicable legislation. If a State or local agency does not comply voluntarily, the State or local agency is subject to fund termination, suspension, or denial; or judicial action.

CSFP local agencies complete the FNS-191 for the CSFP. FNS requires local agencies to provide annually the actual number and racial/ethnic designations of women, infants, children and elderly who receive CSFP benefits during the month of April.

FSP and FDPIR State or local agencies complete the FNS-101. FNS requires State or local agencies to report annually the actual number and racial/ethnic designation of households who receive FDPIR and/or FSP benefits during the month of July.

FNS is proposing substantial changes in the collection and reporting of racial/ethnic data. These changes are discussed below.

The New Categories and Reporting Forms

Background

Currently, State agencies collect data on five racial and ethnic categories: American Indian or Alaska Native, Asian or Pacific Islander, Black (not of Hispanic origin), Hispanic, and White (not of Hispanic origin). The current racial and ethnic categories, which have been in place for over 20 years, conform to standards set by the Office of Management and Budget (OMB) in Statistical Policy Directive No. 15, Race and Ethnic Standards for Federal Statistics and Administrative Reporting. On October 30, 1997, OMB issued a revision of Statistical Policy Directive No. 15 in a notice in the Federal Register (62 FR 58781 (Oct. 30, 1997)). The 1997 standards revise the categories and manner of reporting. Under the revised standards, the Asian or Pacific Islander category is now separated into two categories—“Asian” and “Native Hawaiian or Other Pacific Islander.” In addition, Hispanic now becomes an ethnic category separate from the racial categories. The ethnic categories are “Hispanic or Latino” and “Not Hispanic or Latino.” Applicants will now be allowed to choose more than one race. All Federal and State agencies are to comply with the new standards.

In order to comply with the revised OMB policy directive, on November 30, 1999, FNS issued a notice in the Federal Register proposing new reporting forms for FNS-191 and FNS-101. The proposed forms included the single race blocks and a category for the count of the number of people who chose more than one race. Since that notice was published, OMB, on March 9, 2000, issued OMB Bulletin No. 00-02, which provided new guidance to Federal agencies on the collection of aggregate data from non-Federal entities and the compiling of the data for Federal purposes. That guidance directed Federal agencies to collect data for the four double race combinations most commonly reported in studies and for any other racial combinations that exceed one percent of the State population or other population of interest. The four double race categories are American Indian or Alaska Native and White; Asian and White; Black or African American and White; and American Indian or Alaska Native and Black or African American. Accordingly, FNS has revised the forms for this notice based on the additional guidance.

State Collection of Data

For all three programs, the new five racial categories for State agency data collection are: American Indian or Alaska Native, Asian, Black or African American, Native Hawaiian or Other Pacific Islander, and White. The two revised ethnic categories are: “Hispanic or Latino” and “Not Hispanic or Latino.” These categories are to be included on the application or data input screen.

State agencies must use separate questions on the application form or data input screen for collecting data on race and ethnicity, collecting ethnicity data first, then race. Applicants may choose only one response to the ethnicity question, either “Hispanic or Latino” or “Not Hispanic or Latino.” For all three programs, State and local agencies must offer applicants the option of selecting one or more racial designations from the above categories, distinct from a selection for the ethnic category. State agencies may not offer respondents (applicants) a “multiracial” category. Instructions on race reporting on the application form should ask the respondent to “Mark one or more * * *” or “Select one or more. * * *” If racial and ethnic information are not provided voluntarily by the applicant, the State agency is to obtain the information based on visual observation. When visual observation is used, only a single race need be collected, along with the ethnicity. The new multiple race data collection and reporting are intended to capture information on the number of people reporting that they are of more than one race. State agencies will need to modify their application forms, computer input screens and information systems to capture and retrieve data in the revised categories.

For the CSFP, State agencies currently collect this data by participant. CSFP State agencies will continue to collect the data by participant, but must use the revised racial and ethnic categories and provide for multiple race reporting.

For FDPIR and FSP, State agencies currently collect the data by “household” with each household unit being counted under only one race. In actuality, most State agencies collect racial/ethnic data for one person in the household, normally the person who completes the application or is interviewed. This is done because the reporting of racial information by an applicant is voluntary and not all household members are required to be present for the eligibility interview. FDPIR and FSP State agencies may continue to collect the data for one person per household but must use the revised racial and ethnic categories and provide for multiple race reporting.

Reporting of Data

FNS is proposing drafts of the revised forms for comment at this time in order to begin to comply with the revised racial and ethnic categories and to inform State agencies of the reporting changes to come. The proposed forms FNS-101 and FNS-191 are included in this notice for review and comment.

For both the FNS-191 and the FNS-101 forms, FNS is proposing to have State agencies report the total number of people (i.e., participants for the FNS-191 and household contacts for the FNS-101 as explained below) in the revised racial and ethnic categories for each single race, and for the following combinations:

(1) American Indian or Alaska Native and White.

(2) Asian and White.

(3) Black or African American and White.

(4) American Indian or Alaska Native and Black or African American.

(5) Any other racial combinations with a population in the State that exceeds 1 percent of the total population for the State.

(6) The balance of respondents reporting more than one race.

State agencies would need to review Census 2000 data to determine which other racial combinations have a population that exceeds the one percent population threshold in their State. Each such combination would be reported as a separate line item. Census 2000 summary data shows 2.4 percent of the Nation's population chose more than one race and in four States more than four percent of the State's population chose more than one race. Census 2000 data on the poverty population by combination is expected to become available in 2003. In addition, State agencies must report in a separate break out column the number of persons in each single or multiple race category line item who are Hispanic or Latino. Detailed reporting instructions will be issued by FNS when the revised forms are approved by OMB and finalized. State agencies should note that the additional one percent combination categories they must report are subject to change with the next U.S. Census.

The FNS-191 and FNS-101 are being revised to include the revised racial/ethnic categories described above. Additionally, other changes are being made to the forms. For the FNS-191, respondents will simply report the total number of participants in each category, without a breakout by women, infants, children and elderly participants. For the FNS-101, respondents will continue to report the data by household, but we have changed the designation on the form to “household contact”, which is a more appropriate term.

In addition, there are certain other changes for the FNS-101 that apply only to the FSP. Currently, FSP State and local agencies report the racial ethnic data by project area for approximately 2,800 projects. The increase in data elements (from the current 5 to the proposed 26) will have a significant impact on a State's reporting burden if we were to retain the project area reporting. To ease the impact on State reporting, we propose to have State agencies report this data in a single Statewide report to FNS for the FSP, which would eliminate project area reporting to FNS. Most State agencies have Statewide information systems which can provide State totals and we encourage State agencies to automate all their data compilations. Although we are proposing Statewide reporting on the FNS-101 for the FSP, the State agency will need to maintain the data by project area for FNS review. The data must be kept in an easily retrievable form and be made available to FNS upon request. FNS also intends to provide for electronic reporting of the new Statewide form through our State Cooperative Data Exchange (SCDEX) process for the FSP in the near future.

Currently, Hawaii, Guam, and the Virgin Islands are exempt from reporting racial/ethnic data on the current FNS-101 for the FSP. This exemption, which FNS granted in 1972 and reaffirmed in 1983, was due to the significant multiracial composition in Hawaii that did not fall neatly into the single race blocks on the form and the essentially homogeneous racial/ethnic population in Guam and the Virgin Islands. Our review of the latest available Census Bureau racial statistics for all three of these areas showed a diverse population. In view of this diversity, and since the revised form will allow multiple race reporting, we propose to terminate the current exemption for the above entities and will require that the above-mentioned State agencies to begin to report racial statistics to FNS on the revised FNS-101 along with all other FSP State agencies.

The more detailed data for all three programs will allow FNS to more accurately capture the increasing diversity of participants and household contacts in its programs. The one percent categories are intended to minimize the reporting burden on State agencies while providing FNS with line item data on program participation by additional multiple race combinations which exceed the threshold percentage in that State. Finally, the data will be used for civil rights monitoring and enforcement.

We estimate a State agency will need to report on average 24 data elements on the proposed form based on the available Census data. State agencies in a very small number of States may have to report an additional category or two for additional combinations that exceed one percent of the State's population. However, State agencies will be responsible for maintaining the aggregate data by each single race and by every possible racial combination category for State agency monitoring and for Federal review purposes. Thus, the State agency's information system will need to compile and maintain the data for a total of 62 racial and ethnic categories, 10 categories for those who report exactly one race (5 categories for all household contacts by race and 5 categories for Hispanic contacts only by race) and 52 categories for those who report more than one race (26 categories for all household contacts and the remaining 26 for Hispanic contacts only).

Implementation

FNS recognizes that State and local agencies will need time to modify their application forms, data input screens, and information systems in order to begin capturing and tabulating the revised data for all three programs. It is crucial for FNS' information system that all State agencies for a given program implement the revised reporting format at the same time. Lastly, published elsewhere in this issue of the Federal Register, a proposed rule addressing the implementation of collection and reporting of racial ethnic data for the Food Stamp Program is available for public comment. As explained in the preamble to the proposed rule, until comment is received on this notice and the proposed rule, and approval for the revised forms are approved by OMB, State agencies would continue with the current data collection requirements for the fiscal year 2003 reporting period. FNS anticipates the publication of the final rule early in 2003.

FNS proposes that CSFP, FDPIR, and FSP State and local agencies begin collecting the racial/ethnic data for the revised reporting with new applications filed beginning no later than October 1, 2003 and in any event that caseload conversion be completed prior to the FY 2004 report month. The revised reporting to FNS would be effective for the report month of April 2004 for the FNS-191 and the report month of July 2004 for the FNS-101.

FNS is requesting comments on the proposed reporting forms, FNS' estimate of the burden hours, and the proposed implementation date. We invite State agencies to include in their comments any estimates of significant cost increases that the proposed reporting changes may entail. We ask that State agencies be as specific as possible as to which data elements might increase costs most significantly. We also ask commenters to identify the program involved in their comments. After considering the comments, FNS will finalize the revised forms and include them in the burden package for OMB approval. FNS will formally announce the effective date(s) for each of the affected programs through implementing memoranda as appropriate and will provide copies of the revised forms at that time. The two revised forms follow this notice.

Burden Estimate

Respondents: Local agencies that administer the CSFP, FDPIR, and FSP.

Number of Respondents: 265 (101 for CSFP, 111 for FDPIR, and 53 for FSP).

Estimated Number of Responses per Respondent:

Form FNS-191: 101 local CSFP agencies once a year.

Form FNS-101: 111 local FDPIR agencies and 53 State FSP agencies once a year.

Estimate of Burden:

Form FNS-191: The local CSFP agencies submit Form FNS-191 at an estimate of 1.75 hours per respondent, or 176.75 total hours. There is an additional recordkeeping burden of .25 hours per respondent for maintaining the responses, or 25.25 hours. Total burden is 202 hours.

Form FNS-101: The local FDPIR and State FSP agencies submit Form FNS-101 at an estimate of 1.75 hours per respondent, or 287 total hours. There is an additional burden of .25 hours per respondent for maintaining the responses, or 41 hours. The lower burden per respondent reflects the increased use of automation to complete the report. Total burden is 328 hours.

Estimated Total Annual Burden on Respondents: The revised annual reporting and recordkeeping burden for OMB No. 0584-0025 is estimated to be 530 hours, a reduction of 6,065 hours. The burden reduction is due primarily to the decrease in the number of agencies that will complete a report.

Dated: November 21, 2002.
Roberto Salazar,
Administrator.

BILLING CODE 3410-30-P

[FR Doc. 02-30113 Filed 11-26-02; 8:45 am]

BILLING CODE 3410-30-C